SECURITIES AND EXCHANGE COMMISSION

[Release No. 34-75396; File No. SR-ICC-2015-006]

Self-Regulatory Organizations; ICE Clear Credit LLC; Notice of Withdrawal of Proposed Rule Change to Provide for the Clearance of an Additional Standard Emerging Market Sovereign Single Name

July 8, 2015.

On March 27, 2015, ICE Clear Credit LLC (“ICC”) filed with the Securities and Exchange Commission (“Commission”) the proposed rule change SR-ICC-2015-006 pursuant to Section 19(b)(1) of the Securities Exchange Act of 1934 (“Act”) ¹ and Rule 19b-4 thereunder,² to amend Subchapter 26D of its rules to provide for the clearance of an additional Standard Emerging Market Sovereign CDS contract, namely Ukraine. Notice of the proposed rule change was published for comment in the Federal Register on April 15, 2015.³ On May 22, 2015, ICC extended the time period for the Commission to approve, disapprove, or institute proceedings to determine whether to disapprove the proposed rule change to July 14, 2015. The Commission received no comment letters regarding the proposed rule change.

¹ 15 U.S.C. 78s(b)(1).

² 17 CFR 240.19b-4.

³ Securities Exchange Act Release No. 34-74688 (Apr. 9, 2015), 80 FR 20280 (Apr. 15, 2015) (SR-ICC-2015-006).

On July 1, 2015, ICC withdrew the proposed rule change (File No. SR-ICC-2015-006).

For the Commission, by the Division of Trading and Markets, pursuant to delegated authority.⁴
Brent J. Fields,
Secretary.

⁴ 17 CFR 200.30-3(a)(12).

[FR Doc. 2015-17174 Filed 7-13-15; 8:45 am]

BILLING CODE 8011-01-P